DEPARTMENT OF COMMERCE

National Oceanic and Atmospheric Administration

RIN 0648-XE399

North Pacific Fishery Management Council; Public Meeting

AGENCY: National Marine Fisheries Service (NMFS), National Oceanic and Atmospheric Administration (NOAA), Commerce.

ACTION: Meetings of the North Pacific Fishery Management Council and its advisory committees.

SUMMARY: The North Pacific Fishery Management Council (Council) and its advisory committees will meet February 1, 2016 through February 9, 2016.

DATES: The Council will begin its plenary session at 8 a.m. in the Mayfair Ballroom on Monday February 1st, continuing through Tuesday February 9, 2016. The Scientific and Statistical Committee (SSC) will begin at 8 a.m. in the Cambridge/Oxford room on Monday February 1st, and continue through Wednesday February 3rd, 2016. The Council's Advisory Panel (AP) will begin at 8 a.m. in the Crystal Ballroom on Tuesday February 2nd, and continue through Saturday February 6th, 2016. The Ecosystem Committee will meet on Tuesday February 2, 2016 at 1 p.m. (room to be determined). The Legislative Committee will meet on February 2, 2016 at 1 p.m. (room to be determined).

ADDRESSES: The meeting will be held at the Benson Hotel, 309 Southwest Broadway, Portland, OR 97205.

Council address: North Pacific Fishery Management Council, 605 W. 4th Ave., Suite 306, Anchorage, AK 99501-2252; telephone (907) 271-2809.

FOR FURTHER INFORMATION CONTACT: David Witherell, Council staff; telephone: (907) 271-2809.

SUPPLEMENTARY INFORMATION:

Agenda

Monday, February 1, 2016, Through Tuesday, February 9, 2016

Council Plenary Session: The agenda for the Council's plenary session will include the following issues. The Council may take appropriate action on any of the issues identified.

(1) Executive Director's Report

(2) NMFS Management Report (Including Stock Assessment Prioritization Report, SSL Critical Habitat Redesignation update (T), Climate Science Strategy/Climate Vulnerability Assessment)

(3) ADF&G Report

(4) USCG Report

(5) USFWS Report

(6) IPHC Report

(7) Protected Species Report

(8) NEPA Training

(9) Bering Sea TLAS Yellowfin Sole Fishery Limited Entry—Discussion Paper

(10) GOA Trawl Bycatch Management—Discussion paper

(11) Crab Plan Team Report; Norton Sound RKC OFL/ABC Catch Specifications

(12) Halibut Management Framework—Review

(13) Halibut Deck Sorting Scales 2016 Exempted Fishing Permit, Implementation Industry Workgroup Report

(14) Observer coverage on BSAI trawl CVs—Final Action

(15) Electronic Monitoring Analysis: Review Alternatives and Methods

(16) GOA Tendering Activity—Annual Review

(17) Observer Tendering—Review Alternatives

(18) BSAI Snow Crab Bycatch Data Evaluation: Discussion Paper

(19) Remove Western Aleutian Islands RKC Stocks from FMP—Discussion Paper

(20) Halibut/Sablefish IFQ program review—Review Workplan

(21) Groundfish Policy and Workplan: Ecosystem Committee Report

The Advisory Panel will address most of the same agenda issues as the Council except B reports.

The SSC agenda will include the following issues:

(1) Halibut Framework

(2) Norton Sound Red King Crab Catch Specifications

(3) Crab Modeling Workgroup Report

(4) Crab/Groundfish Economic SAFE Climate Science Strategy

(5) Climate Vulnerability

(6) Stock Assessment Prioritization

(7) NEPA Training

(8) Halibut/Sablefish Individual Fishing Quota

(9) Deck Sorting

(10) Electronic Monitoring

(11) Snow Crab Bycatch

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Authority: 16 U.S.C. 1801 et seq.

Dated: January 11, 2016.
Tracey L. Thompson,
Acting Director, Office of Sustainable Fisheries, National Marine Fisheries Service.

[FR Doc. 2016-00593 Filed 1-13-16; 8:45 am]

BILLING CODE 3510-22-P